EQUAL EMPLOYMENT OPPORTUNITY COMMISSION

Sunshine Act Meeting

FEDERAL REGISTER CITATIONS OF PREVIOUS ANNOUNCEMENT: 70 FR 20217, April 18, 2005 & 70 FR 19452, April 13, 2005.

PREVIOUSLY ANNOUNCED TIME AND DATE OF MEETING: 9 a.m. (eastern time) Thursday, April 21, 2005.

CHANGE IN THE MEETING: The closed session of the Meeting has been cancelled.

FURTHER INFORMATION CONTACT: Stephen Llewellyn, Acting Executive Officer on (202) 663-4070.

Dated: April 20, 2005.
Stephen Llewellyn,
Acting Executive Officer.

[FR Doc. 05-8240 Filed 4-20-05; 2:48 pm]

BILLING CODE 6750-06-M